DEPARTMENT OF COMMERCE

National Oceanic and Atmospheric Administration

[RTID 0648-XB416]

North Pacific Fishery Management Council; Public Meetings

AGENCY: National Marine Fisheries Service (NMFS), National Oceanic and Atmospheric Administration (NOAA), Commerce.

ACTION: Notice of web conference meetings.

SUMMARY: The North Pacific Fishery Management Council (Council) and its advisory committees will meet from September 30, 2021, through October 15, 2021.

DATES: The Council's Scientific and Statistical Committee (SSC) will begin at 8 a.m. on Thursday, September 30, 2021, through Friday, October 1, 2021, and on Monday, October 4, 2021, through Wednesday, October 6, 2021. The Council's Advisory Panel (AP) will begin at 8 a.m. on Monday, October 4, 2021, through Friday, October 8, 2021. The Council will meet on Wednesday, October 6, 2021, and on Sunday, October 10, 2021, through Friday, October 15, 2021. All times listed are Alaska Time.

ADDRESSES: The meetings will be by web conference. Join online through the links at https://www.npfmc.org/upcoming-council-meetings.

Council address: North Pacific Fishery Management Council, 1007 W 3rd Ave., Anchorage, AK 99501-2252; telephone: (907) 271-2809. Instructions for attending the meeting via web conference are given under Connection Information below.

FOR FURTHER INFORMATION CONTACT: Diana Evans, Council staff; telephone: (907) 271-2809; email: diana.evans@noaa.gov. For technical support, please contact our administrative staff, email: npfmc.admin@noaa.gov.

SUPPLEMENTARY INFORMATION:

Agenda

Thursday, September 30, 2021, Through Friday, October 1, 2021; Monday, October 4, 2021, Through Wednesday, October 6, 2021

The SSC agenda will include the following issues:

1. October preview of Ecosystem Status Report

2. Alaska Fishery Science Center (AFSC) Report on climate regional action plans and the NOAA climate and Fisheries Initiative

3. Observer annual deployment plan for 2022

4. Bering Sea Aleutian Island (BSAI) Crab—Stock assessment and fishery evaluation (SAFE), acceptable biological catch (ABC) and overfishing limit (OFL) for four stocks; plan team report

5. BSAI and Gulf of Alaska (GOA) groundfish—proposed specifications, plan team reports, risk tables

6. Workplan for the halibut Catch Share Plan for Areas 2C/3A allocation review

7. Alaska Climate Integrated Modeling (ACLIM) 2.0 report and GOA CLIM (Climate Integrated Modeling) update

The agenda is subject to change, and the latest version will be posted at https://meetings.npfmc.org/Meeting/Details/2353 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Monday, October 4, 2021, Through Friday, October 8, 2021

The Advisory Panel agenda will include the following issues:

1. BSAI Crab—SAFE, ABC/OFL for four stocks; plan team report

2. IFQ omnibus amendments—initial review, IFQ committee report

3. RQE fee collection program—initial review

4. Halibut Catch Share Plan for Areas 2C/3A allocation review—review workplan

5. BSAI Pacific cod trawl Catcher Vessel (CV) Limited Access Privilege Program (LAPP)—Final Action

6. Observer annual deployment plan for 2022; Partial Coverage Fishery Monitoring Advisory Committee (PCFMAC) report

7. BSAI and GOA groundfish—proposed specifications, plan team reports, risk tables

8. ACLIM 2.0 report and GOA CLIM update

9. Staff Tasking

Wednesday, October 6, 2021

The Council will meet in executive session to discuss administrative matters.

Wednesday, October 6, 2021; Sunday, October 10, 2021, Through Friday, October 15, 2021

The Council agenda will include the following issues. The Council may take appropriate action on any of the issues identified.

1. All B Reports (Executive Director, NMFS Management, NOAA GC, AFSC, ADF&G, USCG, USFWS, U.S. Navy Report on Northern Edge 2021)

2. BSAI Crab—SAFE, ABC/OFL for four stocks; plan team report

3. IFQ omnibus amendments—initial review, IFQ committee report

4. RQE fee collection program—initial review

5. AP report in full

6. Halibut Catch Share Plan for Areas 2C/3A allocation review—review workplan

7. BSAI Pacific cod trawl CV LAPP—Final Action

8. SSC report in full

9. Observer Annual Deployment plan; PCFMAC report

10. BSAI and GOA groundfish—proposed specifications; plan team reports; risk tables

11. ACLIM 2.0 report and GOA CLIM update

12. Staff Tasking

Connection Information

You can attend the meeting online using a computer, tablet, or smartphone; or by telephone only. Connection information will be posted online at: https://www.npfmc.org/upcoming-council-meetings. For technical support, please contact our administrative staff, email: npfmc.admin@noaa.gov.

Public Comment

Public comment letters will be accepted and should be submitted electronically through the links at https://www.npfmc.org/upcoming-council-meetings. The Council strongly encourages written public comment for this meeting, to avoid any potential for technical difficulties to compromise oral testimony. The written comment period is open from September 17, 2021, to September 29, 2021, and closes at 5 p.m. Alaska Time on September 29, 2021.

Although other non-emergency issues not on the agenda may come before this group for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Authority: 16 U.S.C. 1801 et seq.

Dated: September 9, 2021.
Tracey L. Thompson,
Acting Deputy Director, Office of Sustainable Fisheries, National Marine Fisheries Service.

[FR Doc. 2021-19792 Filed 9-13-21; 8:45 am]

BILLING CODE 3510-22-P